DEPARTMENT OF TRANSPORTATION

Office of the Secretary

Notice of Applications for Certificates of Public Convenience and Necessity and Foreign Air Carrier Permits Filed Under Subpart B (Formerly Subpart Q) During the Week Ending August 1, 2003

The following Applications for Certificates of Public Convenience and Necessity and Foreign Air Carrier Permits were filed under subpart B (formerly subpart Q) of the Department of Transportation's Procedural Regulations (See 14 CFR 301.201 et. seq.). The due date for Answers, Conforming Applications, on Motions to Modify Scope are set forth below for each application. Following the Answer period DOT may process the application by expedited procedures. Such procedures may consist of the adoption of a show-cause order, a tentative order, or in appropriate cases a final order without further proceedings.

Docket Number: OST-1995-545.

Date Filed: July 30, 2003.

Due Date for Answers, Conforming Applications, or Motion to Modify Scope: August 20, 2003.

Description: Application of Delta Air Lines, Inc., pursuant to 49 U.S.C. Sections 41102, 41108 and subpart B, requesting renewal of its certificate of public convenience and necessity to engage in scheduled foreign air transportation of persons, property, and mail between Atlanta, GA, and Caracas, Venezuela.

Docket Number: OST-2003-15821.

Date Filed: July 31, 2003.

Due Date for Answers, Conforming Applications, or Motion to Modify Scope: August 21, 2003.

Description: Application of TransAtlantic Airlines Limited, pursuant to 49 U.S.C. Section 41301, et seq., and subpart B, requesting a foreign air carrier permit authorizing it to engage in scheduled and charter foreign air transportation of persons, property, and mail between Sierra Leone and the United States.

Docket Number: OST-1997-3177.

Date Filed: August 1, 2003.

Due Date for Answers, Conforming Applications, or Motion to Modify Scope: August 22, 2003.

Description: Application of Northwest Airlines, Inc., pursuant to 49 U.S.C. section 41101 and subpart B, requesting renewal of Segment 1 of its Route 378 certificate of public convenience and necessity, and to integrate this certificate authority with all of Northwest's existing certificate and exemption authority to the extent consistent with U.S. bilateral agreements and DOT policy.

Andrea M. Jenkins,
Program Manager, Docket Operations, Federal Register Liaison.

[FR Doc. 03-20930 Filed 8-14-03; 8:45 am]

BILLING CODE 4910-62-M